FEDERAL COMMUNICATIONS COMMISSION

47 CFR Part 73

[ET Docket No. 10—152; FCC 10-194]

Satellite Television Extension and Localism Act of 2010 and Satellite Home Viewer Extension and Reauthorization Act of 2004

AGENCY: Federal Communications Commission.

ACTION: Proposed rule.

SUMMARY: This document invites comment the submission of additional information concerning the methodological changes for the digital ILLR model with respect to the calculation of diffraction loss close to an obstacle or leading up to and following a pair of obstacles; and a factual or scientific basis for explaining the additional losses in the line of sight range above and beyond the free space loss and two-ray-loss. The Commission is particularly interested in information on any other techniques for improving the degree to which the model accurately represents the propagation of a digital television signal from a transmitter to a specific receive site and any new data that may be available for improving the model's predictions.

DATES: Comments must be filed on or before January 21, 2011, and reply comments must be filed on or before February 7, 2011.

FOR FURTHER INFORMATION CONTACT: Alan Stillwell, Office of Engineering and Technology, (202) 418-2925, e-mail: Alan.Stillwell@fcc.gov or Robert Weller, Office of Engineering and Technology, (202) 418-7397, TTY (202) 418-2989.

ADDRESSES: You may submit comments, identified by ET Docket No. 10-97, by any of the following methods:

• Federal eRulemaking Portal: http://www.regulations.gov. Follow the instructions for submitting comments.

• Federal Communications Commission's Web Site: http://www.fcc.gov/cgb/ecfs/. Follow the instructions for submitting comments.

• E-mail: [Optional: Include the e-mail address only if you plan to accept comments from the general public]. Include the docket number(s) in the subject line of the message.

• Mail: [Optional: Include the mailing address for paper, disk or CD-ROM submissions needed/requested by your Bureau or Office. Do not include the Office of the Secretary's mailing address here.]

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION of this document.

SUPPLEMENTARY INFORMATION: This is a summary of the Commission's Further Notice of Proposed Rule Making, ET Docket No. 10-152, FCC 10-194, adopted November 22, 2010, and released November 23, 2010. The full text of this document is available for inspection and copying during normal business hours in the FCC Reference Center (Room CY-A257), 445 12th Street, SW., Washington, DC 20554. The complete text of this document also may be purchased from the Commission's copy contractor, Best Copy and Printing, Inc., 445 12th Street, SW., Room CY-B402, Washington, DC 20554. The full text may also be downloaded at: www.fcc.gov.

Pursuant to §§ 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121, May 1, 1998.

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

People with Disabilities: To request materials in accessible formats for people with disabilities (braille, large print, electronic files, audio format), send an e-mail to fcc504@fcc.gov or call the Consumer & Governmental Affairs Bureau at 202-418-0530 (voice), 202-418-0432 (tty).

Summary of Further Notice of Proposed Rulemaking

1. In the Report and Order, FCC 10-194, adopted November 22, 2010 and released November 23, 2010, in this proceeding, the Commission adopted a new digital TV ILLR model that complies with the requirements and provisions of the Satellite Television Extension and Localism Act of 2010 (STELA). This model will provide a method for accurately, reliably and presumptively estimating the signal strength of digital television stations at individual locations for purposes of determining whether a subscriber to a satellite television service is eligible for delivery of distant network signals from that service. With this model in place, the Commission seeks to further investigate and consider the suggestions in the comments for possible modifications to the digital ILLR model that would further improve the accuracy and improve the accuracy and reliability of its predictions. The Commission would adopt such modifications in a subsequent Report and Order in this proceeding.

2. In this regard, the Commission invites the submission of additional information concerning the methodological changes suggested in the comments by Mr. Shumate for the digital ILLR model with respect to (1) calculation of diffraction loss close to an obstacle or leading up to and following a pair of obstacles and (2) a factual or scientific basis for explaining the additional losses in the line of sight range above and beyond the free space loss and two-ray-loss. The Commission is requesting a detailed description of the methodological changes that would be offered for addressing these aspects of the model and how they would improve the model to better estimate digital television signal strengths at individual locations. Such additional submissions should also include computer software that implements these methodological changes, to the extent that it is available, for evaluation by our engineering staff. The Commission also requests comment and technical evaluations from interested parties on the changes Mr. Shumate proposes. In his submission in this proceeding, Mr. Shumate provides a brief description of a comparison of estimates generated using the current ILLR model and the “ITWOM” with the improvements he suggests. The Commission now requests additional information on this comparison and also the submission of additional data and information that provides comparative analysis of the two methods. Interested parties are also invited to submit additional proposals and suggestions for improving the digital ILLR model. The Commission is particularly interested in information on any other techniques for improving the degree to which the model accurately represents the propagation of a digital television signal from a transmitter to a specific receive site and any new data that may be available for improving the model's predictions.

A. Initial Regulatory Flexibility Certification.

3. The Regulatory Flexibility Act of 1980, as amended (RFA),¹ requires that an initial regulatory flexibility analysis be prepared for notice and comment rulemaking proceedings, unless the agency certifies that “the rule will not, if promulgated, have a significant economic impact on a substantial number of small entities.” ² The RFA generally defines the term “small entity” as having the same meaning as the terms “small business,” “small organization,” and “small governmental jurisdiction.” ³ In addition, the term “small business” has the same meaning as the term “small business concern” under the Small Business Act.⁴ A “small business concern” is one which: (1) Is independently owned and operated; (2) is not dominant in its field of operation; and (3) satisfies any additional criteria established by the Small Business Administration (SBA).⁵

¹ The RFA, see 5 U.S.C. 601-612, has been amended by the Small Business Regulatory Enforcement Fairness Act of 1996 (SBREFA), Public Law 104-121, Title II, 110 Stat. 857 (1996).

² 5 U.S.C. 605(b).

³ 5 U.S.C. 601(6).

⁴ 5 U.S.C. 601(3) (incorporating by reference the definition of “small business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁵ 15 U.S.C. 632. Federal Register.

4. The Commission is providing a plan for the model's continued refinement by use of additional data as it may become available. Under that plan, refinements based on additional data may be proposed by referencing the docket of this proceeding, which will be held open indefinitely for this purpose. Consistent with this intention to refine the model as new information becomes available, the Commission is initiating this Further Notice of Proposed Rulemaking herein to request comment on possible modifications to the methodology in the digital Individual Location Longley-Rice (ILLR) model to improve its predictive accuracy as suggested by one of the parties responding to the Notice of Proposed Rulemaking, 75 FR 46885, August 4, 2010, in this proceeding. The methodological changes to be addressed in the Further NPRM would change the manner in which our predictions are calculated but would not alter the administrative burden on any of the small business entities that would use or be affected by the predictive model. Therefore, the Commission does not expect these changes to have any economic impact on small entities.

5. Therefore, we certify that the proposals in this Notice of Proposed Rulemaking, if adopted, will not have a significant economic impact on a substantial number of small entities. If commenters believe that the proposals discussed in the NPRM require additional RFA analysis, they should include a discussion of these issues in their comments and additionally label them as RFA comments. The Commission will send a copy of the NPRM, including a copy of this initial certification, to the Chief Counsel for Advocacy of the SBA.⁶

⁶ See 5 U.S.C. 605(b).

B. Paperwork Reduction Act Analysis:

6. This document does not contain proposed information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

Ordering Clauses

7. Pursuant to sections 1, 4, 301, and 339(c)(3) of the Communications Act of 1934, as amended, 47 U.S.C. 151, 154, 301, 339(c)(3), and section 119(d)(10)(a) of the Copyright Act, 17 U.S.C. 119(d)(10)(a), this further notice of proposed rulemaking is hereby adopted.

8. The Commission's Consumer and Governmental Affairs Bureau, Reference Information Center, shall send a copy of this further notice of proposed rulemaking, including the Initial Regulatory Flexibility Certification, and IRFA, to the Chief Counsel for Advocacy of the Small Business Administration.

9. The Commission's Consumer and Governmental Affairs Bureau, Reference Information Center, shall send a copy of the Further Notice of Proposed Rulemaking, including the Initial Regulatory Flexibility Analysis, to the Chief Counsel for Advocacy of the Small Business Administration, to Congress and the General Accounting Office pursuant to the Congressional Review Act, see 5 U.S.C. 801(a)(1)(A).⁷

⁷ See 5 U.S.C. 603(a).

10. The Commission's Consumer and Governmental Affairs Bureau, Reference Information Center, will send a copy of this NPRM, including the IRFA, to the Chief Counsel for Advocacy of the Small Business Administration, in accordance with the Regulatory Flexibility Act.

Marlene H. Dortch,
Secretary, Federal Communications Commission.

[FR Doc. 2010-32039 Filed 12-21-10; 8:45 am]

BILLING CODE 6712-01-P